DEPARTMENT OF ENERGY

Federal Energy Regulatory Commission

[Docket No. RP03-480-002]

Wyoming Interstate Company, Ltd.; Notice of Compliance Filing

November 7, 2003.

Take notice that on October 30, 2003, Wyoming Interstate Company, Ltd. (WIC) tendered for filing as part of its FERC Gas Tariff, Second Revised Volume No. 2, the following tariff sheets with an effective date of November 19, 2003:

Substitute Third Revised Sheet No. 70

Seventh Revised Sheet No. 72

WIC states that these tariff sheets implement the pro forma tariff provisions accepted by the Commission in WIC's gas quality settlement at Docket No. RP03-480-001.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the eFiling link.

Magalie R. Salas,
Secretary.

[FR Doc. E3-00315 Filed 11-18-03; 8:45 am]

BILLING CODE 6717-01-P